DEPARTMENT OF TRANSPORTATION

Federal Aviation Administration

14 CFR Part 39

[Docket No. FAA-2013-0300; Directorate Identifier 2011-NM-163-AD]

RIN 2120-AA64

Airworthiness Directives; The Boeing Company Airplanes

AGENCY: Federal Aviation Administration (FAA), DOT.

ACTION: Notice of proposed rulemaking (NPRM).

SUMMARY: We propose to adopt a new airworthiness directive (AD) for certain The Boeing Company Model 757-200, 757-200CB, and 757-200PF airplanes. This proposed AD was prompted by a report that a forward-most cam latch of the forward center cam latch pair on a main cargo door (MCD) broke during flight. This proposed AD would require performing repetitive inspections of the MCD cam latches; replacing cam latches, certain bolts, and door hinge fittings; performing related investigative and corrective actions, if necessary; and MCD rigging. We are proposing this AD to detect and correct cracked or damaged cam latches, latch pins, and latch pin cross bolts, which could reduce the structural integrity of the MCD, and result in potential rapid decompression of the airplane and potential loss of the cargo door from the airplane.

DATES: We must receive comments on this proposed AD by May 28, 2013.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Boeing Commercial Airplanes, Attention: Data & Services Management, P.O. Box 3707, MC 2H-65, Seattle, Washington 98124-2207; telephone 206-544-5000, extension 1; fax 206-766-5680; Internet https://www.myboeingfleet.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Kimberly DeVoe, Aerospace Engineer, Cabin Safety and Environmental Systems Branch, ANM-150S, FAA, Seattle Aircraft Certification Office, 1601 Lind Avenue SW., Renton, WA 98057-3356; phone: (425) 917-6495; fax: (425) 917-6590; email: kimberly.devoe@faa.gov.

SUPPLEMENTARY INFORMATION:

Comments Invited

We invite you to send any written relevant data, views, or arguments about this proposal. Send your comments to an address listed under the ADDRESSES section. Include “Docket No. FAA-2013-0300; Directorate Identifier 2011-NM-163-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We received a report that the forward-most cam latch on the forward center cam latch pair on a main cargo door (MCD) broke during flight on a Model 757 airplane. Cracked or damaged cam latches, latch pins, and latch pin cross bolts, if not corrected, could reduce the structural integrity of the MCD, and result in potential rapid decompression of the airplane and potential loss of the cargo door from the airplane. Two of the eight cam latches or latch pins being broken in close proximity will cause loss of the cargo door during flight.

Relevant Service Information

We reviewed Boeing Alert Service Bulletin 757-52A0091, dated March 9, 2010. For information on the procedures and compliance times, see this service information at http://www.regulations.gov by searching for Docket No. FAA-2013-0300.

FAA's Determination

We are proposing this AD because we evaluated all the relevant information and determined the unsafe condition described previously is likely to exist or develop in other products of these same type designs.

Proposed AD Requirements

This proposed AD would require accomplishing the actions specified in the service information identified previously under “Relevant Service Information,” except as discussed under “Differences Between the Proposed AD and the Service Information.”

The phrase “related investigative actions” might be used in this proposed AD. “Related investigative actions” are follow-on actions that (1) are related to the primary actions, and (2) are actions that further investigate the nature of any condition found. Related investigative actions in an AD could include, for example, inspections.

In addition, the phrase “corrective actions” might be used in this proposed AD. “Corrective actions” are actions that correct or address any condition found. Corrective actions in an AD could include, for example, repairs.

Differences Between the Proposed AD and the Service Information

The Accomplishment Instructions of Boeing Alert Service Bulletin 757-52A0091, dated March 9, 2010, specify to contact the manufacturer for disposition of certain repair conditions, this proposed AD would require operators to repair those conditions using a method approved by the FAA.

Costs of Compliance

We estimate that this proposed AD affects 9 airplanes of U.S. registry.

We estimate the following costs to comply with this proposed AD:

Estimated Costs
Action | Labor cost | Parts cost | Cost per product | Cost on U.S. operators
Inspections/Modification | 55 work-hours × $85 per hour = $4,675 | None | $4,675 | $42,075
Replace cross bolts | 3 work-hours × $85 per hour = $255 | $0 | 255 | 2,295

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Boeing Company: Docket No. FAA-2013-0300; Directorate Identifier 2011-NM-163-AD.

(a) Comments Due Date

We must receive comments by May 28, 2013.

(b) Affected ADs

None.

(c) Applicability

This AD applies to The Boeing Company Model 757-200, 757-200CB, and 757-200PF airplanes; certified in any category; as identified in Boeing Alert Service Bulletin 757-52A0091, dated March 9, 2010.

(d) Subject

Joint Aircraft System Component (JASC)/Air Transport Association (ATA) of America Code 52, Doors.

(e) Unsafe Condition

This AD was prompted by a report that a forward most cam latch on the forward center cam latch pair on a main cargo door (MCD) broke during flight. We are issuing to detect and correct cracked or damaged cam latches, latch pins, and latch pin cross bolts, which could reduce the structural integrity of the MCD, and result in potential rapid decompression of the airplane and potential loss of the cargo door from the airplane.

(f) Compliance

Comply with this AD within the compliance times specified, unless already done.

(g) MCD Inspections, Bolt Torque, Latch Pin Measurement, Bolt Replacement, and Rigging

At the applicable times specified in table 1 of paragraph 1.E., “Compliance,” of Boeing Alert Service Bulletin 757-52A0091, dated March 9, 2010, except as specified in paragraph (l)(2) of this AD: Do a detailed inspection of the cam latches and latch pins to detect damage, distress, and incorrect rigging; torque the cross bolts; measure the extension of the latch pins; replace all alloy steel bolts used as latch pin cross bolts with corrosion resistant steel (CRES) bolts; rig the MCD, as applicable; and do all applicable related investigative and corrective actions, in accordance with the Accomplishment Instructions of Boeing Alert Service Bulletin 757-52A0091, dated March 9, 2010, except as required by paragraph (l)(2) of this AD. Do all applicable related investigative and corrective actions at the applicable time specified in paragraph 1.E., “Compliance” of Boeing Alert Service Bulletin 757-52A0091, dated March 9, 2010.

(h) Repetitive Inspections

Repeat the applicable inspections specified in paragraph (g) of this AD, as specified in paragraphs (h)(1), (h)(2), and (h)(3) of this AD, at the applicable times specified in table 1 of paragraph 1.E., “Compliance,” of Boeing Alert Service Bulletin 757-52A0091, dated March 9, 2010. The inspection conditions are defined in Boeing Alert Service Bulletin 757-52A0091, dated March 9, 2010.

(1) For airplanes found with Inspection Condition 5: Repeat the general visual inspection for broken, cracked, missing, or migrated parts of the cam latches and latch pins.

(2) For airplanes found with Inspection Condition 2, 4.2, or 5: Repeat the detailed inspection for damage, distress, and incorrect rigging of the cam latches and latch pins.

(3) For airplanes found with Inspection Condition 5: Repeat the high frequency eddy current or magnetic particle inspection to detect signs of cracking of cam latches 1 and 2.

(i) MCD Post-Rigging Initial Inspections and Related Investigative and Corrective Actions

At the applicable times specified in table 2 of paragraph 1.E., “Compliance,” of Boeing Alert Service Bulletin 757-52A0091, dated March 9, 2010: Do a general visual inspection of the cam latches and latch pins for discrepancies; a detailed inspection of the cam latches and latch pins for discrepancies; and an HFEC or magnetic particle inspection of cam latch 1 and cam latch 2 for cracking; and do all applicable related investigative and corrective actions, except as required by paragraph (l)(2) of this AD; in accordance with the Accomplishment Instructions of Boeing Alert Service Bulletin 757-52A0091, dated March 9, 2010. Do all applicable related investigative and corrective actions at the applicable time specified in paragraph 1.E., “Compliance,” of Boeing Alert Service Bulletin 757-52A0091, dated March 9, 2010.

(j) MCD Post-Rigging Repetitive Inspections

(1) For all airplanes: Repeat the inspections specified in paragraph (i) of this AD, at the applicable times specified in table 2 of paragraph 1.E., “Compliance,” of Boeing Alert Service Bulletin 757-52A0091, dated March 9, 2010.

(2) For airplanes found with Inspection Condition 2 as defined in Boeing Alert Service Bulletin 757-52A0091, dated March 9, 2010: Repeat the detailed inspection for damage, distress, and incorrect rigging of the cam latches and latch pins specified in paragraph (i) of this AD on remaining cam latches and cam pins at the applicable times specified in table 2 of paragraph 1.E., “Compliance,” of Boeing Alert Service Bulletin 757-52A0091, dated March 9, 2010.

(k) Parts Installation Prohibition

As of the effective date of this AD, no person may install an alloy steel bolt as a cross bolt through any latch pin fitting assembly in the lower sill of the MCD on any airplane.

(l) Exceptions to Service Bulletin Specifications

The following exceptions apply in this AD.

(1) Where Boeing Alert Service Bulletin 757-52A0091, dated March 9, 2010, specifies a compliance time after the date of that service bulletin, this AD requires compliance within the specified compliance time after the effective date of this AD.

(2) Where Boeing Alert Service Bulletin 757-52A0091, dated March 9, 2010, specifies to contact Boeing for appropriate action: Before further flight, repair the discrepancy in accordance with a method approved by the Manager, Seattle, Aircraft Certification Office (ACO), FAA. For a repair method to be approved, the repair must meet the certification basis of the airplane, and the approval must specifically refer to this AD.

(m) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO to make those findings. For a repair method to be approved, the repair must meet the certification basis of the airplane and the approval must specifically refer to this AD.

(n) Related Information

(1) For more information about this AD, contact Kimberly DeVoe, Aerospace Engineer, Cabin Safety and Environmental Systems Branch, ANM-150S, FAA, Seattle Aircraft Certification Office, 1601 Lind Avenue SW., Renton, WA 98057-3356; phone: (425) 917-6495 ; fax: (425) 917-6590; email: kimberly.devoe@faa.gov.

(2) For service information identified in this AD, contact Boeing Commercial Airplanes, Attention: Data & Services Management, P.O. Box 3707, MC 2H-65, Seattle, Washington 98124-2207; telephone 206-544-5000, extension 1; fax 206-766-5680; Internet https://www.myboeingfleet.com. You may review copies of the referenced service information at the FAA, Transport Airplane Directorate, 1601 Lind Avenue SW., Renton, Washington. For information on the availability of this material at the FAA, call 425-227-1221.

Issued in Renton, Washington, on March 28, 2013.
Ali Bahrami,
Manager, Transport Airplane Directorate, Aircraft Certification Service.

[FR Doc. 2013-08450 Filed 4-10-13; 8:45 am]

BILLING CODE 4910-13-P